DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held June 25, 2002 starting at 9 am.

ADDRESSES: The meeting will be held at RTCA, Inc., 1828 L Street, NW, Suite 805, Washington, DC 20036.

FOR FURTHER INFORMATION CONTACT: RTCA Secretariat, 1828 L Street, NW, Suite 850, Washington, DC 20036; telephone (202) 833-9339; fax (202) 833-9434; web site http://www.rtca.org.

SUPPLEMENTARY INFORMATION: Pursuant to section 10(a)(2) of the Federal Advisory Committee Act (Pub. L. 92-463, 5 U.S.C., appendix 2), notice is hereby given for a Program Management Committee meeting. The agenda will include:

• June 25:

• Opening Session (Welcome and Introductory Remarks, Review/Approve Summary of Previous Meeting).

• Publication Consideration/Approval:

• Final Draft, Minimum Operational Performance Standards for Aircraft VDL Mode 2 Phsical, Link and Network Layers; RTCA Paper No. 100-02/PMC-210, prepared by SC-172.

• Final Draft, DO-242A, Minimum Aviation system Performance Standards for Automatic Dependent Surveillance Broadcast (ADS-B), RTCA Paper No. 106-02/PMC-211, prepared by SC-186.

• Final Draft, Minimum Interoperability Requirements Standard for ATN Baseline 1 (INTEROP ATN B1), RTCA Paper No. 107-02/PMC-212, prepared by SC-189.

• Discussion:

• Matters Regarding Cospas-Sarsat 406 MHz Beacons.

• Update—RTCA SC-181/EUROCAE WG-13 Joint Activity.

• Special Committee Chairman's Reports.

• Action Item Review:

• Action Item 08-01, SC-187 Transponder Activity.

• Status and Review—Change 1 to DO-181C—Hijack Mode Operations.

• Review/Status—All Open Action Items.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 29, 2002.
Janice L. Peters,
FAA Special Assistant, RTCA Advisory Committee.

[FR Doc. 02-14354 Filed 6-6-02; 8:45 am]

BILLING CODE 4910-13-M